DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of September 30, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: August 3, 2016.
Roy E. Wright,
Deputy Associate Administrator for Insurance and Mitigation, Department of Homeland Security, Federal Emergency Management Agency.

Community | Community map repository address
Athens-Clarke County, Georgia (All Jurisdictions)
Docket No.: FEMA-B-1523
Athens-Clarke County | 120 West Dougherty Street, Athens, GA 30601.
New Orleans/Orleans Parish, Louisiana
Docket No.: FEMA-B-1301
New Orleans/Orleans Parish | Public Library, Archives Division, 219 Loyola Avenue, 3rd Floor, New Orleans, LA 70112.
Rogers County, Oklahoma, and Incorporated Areas
Docket No.: FEMA-B-1521
City of Catoosa | City Hall, 214 South Cherokee Street, Catoosa, OK 74015.
City of Tulsa | Stormwater Design Office, 2317 South Jackson Street, Suite 302, Tulsa, OK 74103.
Town of Fair Oaks | Robson Ranch Office/Fair Oaks Town Hall, 23515 East 31st Street, Catoosa, OK 74015.
Unincorporated Areas of Rogers County | Rogers County Courthouse, 200 South Lynn Riggs Boulevard, Claremore, OK 74017.
Tulsa County, Oklahoma, and Incorporated Areas
Docket No.: FEMA-B-1521
City of Broken Arrow | Operations Building, 485 North Poplar Avenue, Broken Arrow, OK 74012.
City of Tulsa | Stormwater Design Office, 2317 South Jackson Street, Suite 302, Tulsa, OK 74103.
Unincorporated Areas of Tulsa County | Tulsa County Annex Building, 633 West 3rd Street, Room 140, Tulsa, OK 74127.
Wagoner County, Oklahoma, and Incorporated Areas
Docket No.: FEMA-B-1521
City of Broken Arrow | Operations Building, 485 North Poplar Avenue, Broken Arrow, OK 74012.
City of Catoosa | City Hall, 214 South Cherokee Street, Catoosa, OK 74015.
City of Coweta | City Hall, 310 South Broadway Street, Coweta, OK 74429.
City of Tulsa | Stormwater Design Office, 2317 South Jackson Street, Suite 302, Tulsa, OK 74103.
Town of Fair Oaks | Robson Ranch Office/Fair Oaks Town Hall, 23515 East 31st Street, Catoosa, OK 74015.
Unincorporated Areas of Wagoner County | Wagoner County Courthouse, 307 East Cherokee Street, Wagoner, OK 74467.

[FR Doc. 2016-19908 Filed 8-19-16; 8:45 am]

BILLING CODE 9110-12-P